DEPARTMENT OF THE TREASURY

Agency Information Collection Activities; Submission for OMB Review; Comment Request; Multiple Internal Revenue Service (IRS) Information Collection Requests.

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 27, 2022 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Internal Revenue Service (IRS)

1. Title: Quarterly Federal Excise Tax Return.

OMB Number: 1545-0023.

Form Number: Form 720, Form 720-X, and Form 6627.

Abstract: Excise taxes are taxes paid when purchases are made on a specific good, such as gasoline. 26 U.S.C. 4081 imposes tax for miscellaneous excise taxes, manufacturers excise taxes, automotive and related items, petroleum products and motor and aviation fuel. Form 720, Quarterly Federal Excise Tax Return, is used to report liability by IRS number and to pay the excise taxes listed on the form. Form 720-X is used to make adjustments to liability reported on Form 720 filed in previous quarters. Form 6627 is used to figure the environmental tax on petroleum, ODCs, imported products that used ODCs as materials in the manufacture or production of the product, and the floor stocks tax on ODCs. Form 6627 is filed with Form 720.

Current Actions: There is no change in the paperwork burden previously approved by OMB. These forms are being submitted for renewal purposes only.

Type of Review: Extension of a currently approved collection.

Affected Public: Business or other for-profit organizations, individuals, not-for-profit institutions, farms, and Federal, State, local or Tribal governments.

Estimated Number of Respondents: 205,400.

Estimated Time per Respondent: 11 hrs., 38 min.

Estimated Total Annual Burden Hours: 2,391,400.

2. Title: TD 9584, TD 9734, Form 1042, Schedule Q (Form 1042), Form 1042-S, and Form 1042-T.

OMB Number: 1545-0096.

Form Number: 1042, Schedule Q (Form 1042), 1042-S, and 1042-T.

Abstract: TD 9584 contains final regulations that provide guidance on the reporting requirements for interest on deposits maintained at the U.S. office of certain financial institutions and paid to nonresident alien individuals. These regulations affect persons making payments of interest with respect to such a deposit. TD 9734 contains regulations pertain to Internal Revenue Code (IRC) section 871(m) regarding dividend equivalent payments that are treated as U.S. source income. These regulations provide guidance regarding when payments made pursuant to certain financial instruments will be treated as U.S. source income and subject to U.S. withholding tax.

Form 1042 is used by withholding agents to report tax withheld at source on certain income paid to nonresident alien individuals, foreign partnerships, and foreign corporations to the IRS. Schedule Q (Form 1042) is used withholding agents to report the tax liability of a qualified derivatives dealer (QDD). Form 1042-S is used by withholding agents to report income and tax withheld to payees. A copy of each 1042-S is filed electronically or with Form 1042 for information reporting purposes. The IRS uses this information to verify that the correct amount of tax has been withheld and paid to the United States. Form 1042-T is used by withholding agents to transmit paper Forms 1042-S to the IRS.

Current Actions: There is are changes to the existing collection: (1) Schedule Q (Form 1042) was created to replace the previous requirement to attach a statement to the Form 1042 to provide information regarding a QDD's tax liability; (2) the burden for TD 9584, previously reported under OMB control number 1545-1725, is being incorporated in this collection for clarity and continuity; (3) the burden for Form 1042 was recalculated for better estimates; and (4) the number of respondents and responses for all forms were updated with better estimates.

Type of Review: Revision of a currently approved collection.

Affected Public: Individuals, business or other for-profit organizations, estates, trusts, tax-exempt organizations, and government entities.

Estimated Number of Respondents: 138,150.

Estimated Number of Responses: 8,560,200.

Estimated Time per Respondent: 15 minutes for TD 9584, 8 hours for TD 9734, 29 hours and 28 minutes for Form 1042, 5 hours and 44 minutes for Schedule Q (Form 1042), 34 minutes for Form 1042-S, and 12 minutes for Form 1042-T.

Estimated Total Annual Burden Hours: 6,704,749.

3. Title: U.S. Withholding Tax Return for Certain Dispositions by Foreign Persons and Statement of Withholding on Certain Dispositions by Foreign Persons.

OMB Number: 1545-0902.

Form Numbers: 8288, 8288-A and 8288-C.

Abstract: Internal Revenue Code section 1445 requires transferees to withhold tax on the amount realized from sales or other dispositions by foreign persons. Form 8288 is used to report and transmit the amount withheld to the IRS. Form 8288-A is used by the IRS to validate the withholding, and a copy is returned to the transferor for his or her use in filing a tax return. Form 8288-C is used as evidence of the amount of your section 1.446(f)(1) liability that you satisfied.

Current Actions: The following changes have been made to the forms.

Changes to Form 8288:

(1) The form title has been changed to “U.S. Withholding Tax Return for Certain Dispositions by Foreign Persons”.

(2) The “entity” information (Withholding Agent Information) was separated into Parts I and II to its own sections, to avoid processing and repetition issues.

(3) New Line 4 (Withholding Agent Information) was added to the entity section.

(4) We added 10(b) to allow the large trust to identify that the withholding being reported is a result of the large trust election previously made.

(5) New Parts II, IV, and V were added for reporting witholding under section 1446(f)(1) and 1446(f)(4), due to the final regulation in TD 9226, which has an effective date of 1/1/23, per Notice 2021-51.

Changes to Form 8288-A:

(1) The form title has been changed to “Statement of Withholding on Certain Dispositions by Foreign Persons”.

(2) New box 5 was added to (identify the withholding under the specific section).

(3) A new checkbox was added to box 6 for “Partnerships”.

The burden estimates below do not include estimates for business or individual filers. These estimates are for all other filers only as business estimates are reported under 1545-0123 and individual estimates are reported under 1545-0074.

Type of Review: Revisions of a currently approved collection.

Affected Public: Business or other for-profit organizations and individuals or households.

Form 8288:

Estimated Number of Respondents: 80,000.

Estimated Time per Respondent: 17 hr., 24 min.

Estimated Total Annual Burden Hours: 1,399,200.

Form 8288-A:

Estimated Number of Respondents: 87,500.

Estimated Time per Respondent: 3 hr., 59 min.

Estimated Total Annual Burden Hours: 343,875.

Form 8288-C:

Estimated Number of Respondents: 70,000.

Estimated Time per Respondent: 25 min.

Estimated Total Annual Burden Hours: 17,500.

4. Title: Debt Instruments with Original Discount; Imputed Interest on Deferred Payment Sales or Exchanges of Property; Property Traded on an Established Market.

OMB Number: 1545-1353.

Treasury Decision Numbers: 8517; 9599.

Abstract: These regulations provide definitions, reporting requirements, elections, and general rules relating to the tax treatment of debt instruments with original issue discount and the imputation of, and accounting for, interest on certain sales or exchanges of property. Current Actions: IRS is updating the burden estimates for TD 9599, due to an inadvertent overstatement in the previous OMB submissions. This results in a decrease in the burden estimates by 180,000 responses (from 200,000 to 20,000) and a decrease of 90,000 hours (from 100,000 to 10,000).

Type of Review: Extension of a currently approved collection.

Affected Public: Business or other for-profit organizations, individuals or households.

Estimated Number of Respondents: 525,000.

Estimated Time per Response: 0.35.

Estimated Total Annual Burden Hours: 185,500.

Treasury Decision 9599:

Estimated Number of Respondents: 20,000.

Estimated Time per Response: 0.5.

Estimated Total Annual Burden Hours: 10,000.

5. Title: Highly Compensated Employee Definition.

OMB Number: 1545-1550.

Notice Number: Notice 97-45.

Abstract: Notice 97-45 provides guidance on the definition of highly compensated employee (HCE) within the meaning of section 414(q) of the Internal Revenue Code, as simplified by section 1431 of the Small Business Job Protection Act of 1996, including an employer's option to make a top-paid group election under section 414(q)(1)(B)(ii). The notice requires qualified retirement plans that contain a definition of HCE to be amended to reflect the statutory changes to section 414(q).

Current Actions: There are no changes being made to the notice at this time.

Type of Review: Extension of a currently approved collection.

Affected Public: Businesses or other for-profit organizations, and not-for-profit institutions.

Estimated Number of Respondents: 218,683.

Estimated Time per Response: 18 minutes.

Estimated Total Annual Burden Hours: 65,605.

6. Title: Agent for Consolidated Group.

OMB Number: 1545-1699.

Form Number: TD 9715

Abstract: The information is needed in order for a terminating common parent of a consolidated group to designate a substitute agent for the group and receive approval of the Commissioner, or for a default substitute agent to notify the Commissioner that it is the default substitute agent, pursuant to Treas. Reg. § 1.1502-77. The Commissioner will use the information to determine whether to approve the designation of the substitute agent (if approval is required) and to change the IRS's records to reflect the information about the substitute agent.

Current Actions: There are no changes to the paperwork burden previously approved by OMB.

Type of Review: Extension of a currently approved collection.

Affected Public: Business or other for-profit organizations.

Estimated Number of Responses: 200.

Estimated Time per Response: 2 hours.

Estimated Total Annual Burden Hours: 400.

7. Title: Golden Parachute Payments.

OMB Number: 1545-1851.

Form Number: T.D. 9083.

Abstract: These regulations deny a deduction for excess parachute payments. A parachute payment is payment compensation to a disqualified individual that is contingent on a change in ownership or control of a corporation. Certain payments, including payments from a small corporation, are exempt from the definition of parachute payment if certain requirements are met (such as shareholder approval and disclosure requirements).

Current Actions: There is no change to the paperwork burden previously approved by OMB.

Type of Review: Extension of a currently approved collection.

Affected Public: Business or other for-profit organizations.

Estimated Number of Respondents: 800.

Estimated Time per Respondent: 15 hours.

Estimated Total Annual Burden Hours: 12,000 hours.

8. Title: Timely Mailing Treated as Timely Filing.

OMB Number: 1545-1899.

Form Number: T.D. 9543 and Revenue Procedure 97-19.

Abstract: This information collection contains regulations that provide guidance as to the only ways to establish prima facie evidence of delivery of documents that have a filing deadline prescribed by the internal revenue laws, absent direct proof of actual delivery. The regulations are necessary to provide greater certainty on this issue and to provide specific guidance. The regulations affect taxpayers who mail Federal tax documents to the Internal Revenue Service or the United States Tax Court. Revenue Procedure 97-19 provides the criteria that will be used by the IRS to determine whether a private delivery service qualifies as a designated Private Delivery Service under section 7502 of the Internal Revenue Code.

Current Actions: There is no change to the paperwork burden previously approved by OMB.

Type of Review: Extension of a currently approved collection.

Affected Public: Individuals or households, business or other for-profit organizations, not-for-profit institutions, farms, Federal Government, and State, local, or Tribal government.

The estimated burden related to Revenue Procedure 97-19:

Estimated Number of Responses: 14.

Estimated Time per Response: 60 hours, 54 minutes.

Estimated Total Annual Burden Hours: 853.

The estimated related to T.D. 9543:

Estimated Number of Responses: 10,847,647.

Estimated Time per Response: 6 minutes.

Estimated Total Annual Burden Hours: 1,084,765.

Total Estimated Number of Respondents: 10,847,661.

Total Estimated Total Annual Burden Hours: 1,085,618 hours.

Authority: 44 U.S.C. 3501 et seq.

Melody Braswell,
Treasury PRA Clearance Officer.

[FR Doc. 2022-25705 Filed 11-23-22; 8:45 am]

BILLING CODE 4830-01-P